GENERAL SERVICES ADMINISTRATION

[Notice-MA-2020-03; Docket No. 2020-0002, Sequence No. 10]

Premium Class Transportation Reporting Requirements

AGENCY: Office of Government-wide Policy (OGP), General Services Administration (GSA).

ACTION: Notice of Federal Travel Regulation (FTR) Bulletin 20-05, premium class transportation reporting requirements.

SUMMARY: GSA is publishing the reporting requirements for the use of other than coach class, also known as “premium class” transportation by Government employees on official travel. This bulletin also clarifies which accommodations are not considered premium class, and are therefore not reportable. This information will be available in FTR Bulletin 20-05, which can be found on GSA's website at https://gsa.gov/ftrbulletins.

DATES: Applicability date: March 31, 2020. This notice applies to all official travel and relocation and remains in effect until superseded or cancelled.

FOR FURTHER INFORMATION CONTACT: For clarification of content, please contact Ms. Cheryl D. McClain-Barnes, Program Analyst, Office of Government-wide Policy, Office of Asset and Transportation Management, at 202-208-4334, or by email at travelpolicy@gsa.gov. Please cite Notice of FTR Bulletin 20-05.

SUPPLEMENTARY INFORMATION:

The FTR requires Government travelers to use coach class accommodations, unless they have an authorized exception to use the lowest class of premium class transportation required to meet their needs and accomplish the mission. Federal agencies must report the authorized use and payment of premium class transportation while on official travel when the cost is more expensive than comparable coach class accommodations for the same itinerary. Changes in the airline industry such as the creation of classes that are in between coach and business classes has prompted agencies to request clarity in premium class reporting requirements. FTR Bulletin 20-05 provides the guidance needed to promote consistent reporting on the use of premium class transportation used for official temporary duty and relocation travel.

Jessica Salmoiraghi,
Associate Administrator, Office of Government-wide Policy.

[FR Doc. 2020-06666 Filed 3-30-20; 8:45 am]

BILLING CODE 6820-14-P